DEPARTMENT OF HOMELAND SECURITY

Coast Guard

33 CFR Part 117

[Docket No. USCG-2016-0135]

Drawbridge Operation Regulation; Lake Washington Ship Canal, Seattle, WA

AGENCY: Coast Guard, DHS.

ACTION: Notice of deviation from drawbridge regulation.

SUMMARY: The Coast Guard has issued a temporary deviation from the operating schedule that governs the Montlake Bridge across the Lake Washington Ship Canal, mile 5.2, at Seattle, WA. The deviation is necessary to accommodate a bike ride by the Cascade Bicycle Club. This deviation allows the bridge to remain in the closed-to-navigation position to allow for the safe movement of event participants.

DATES: This deviation is effective from 7 a.m. on April 2, 2016 to 12:30 p.m. on April 3, 2016.

ADDRESSES: The docket for this deviation, [USCG-2016-0135] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: The Washington State Department of Transportation requested permission for the Montlake Bridge across the Lake Washington Ship Canal to remain in the closed-to-navigation position to facilitate the safe, uninterrupted roadway passage of event participants. The deviation is necessary to accommodate the grand opening of the new Evergreen Point Floating Bridge bike ride by the Cascade Bicycle Club. The Montlake Bridge in the closed position provides 30 feet of vertical clearance throughout the navigation channel, and 46 feet of vertical clearance throughout the center 60 feet of the bridge; vertical clearance references to the Mean Water Level of Lake Washington. The deviation period is from 7 a.m. to 6 p.m. on April 2, 2016, and from 6:30 a.m. to 12:30 p.m. on April 3, 2016. The normal operating schedule for the Montlake Bridge operates in accordance with 33 CFR 117.1051(e).

Waterway usage on the Lake Washington Ship Canal ranges from commercial tug and barge to small pleasure craft. Vessels able to pass through the bridge in the closed-to-navigation position may do so at any time. The bridge will be able to open for emergencies. The Lake Washington Ship Canal has no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: February 23, 2016.
Steven M. Fischer,
Bridge Administrator, Thirteenth Coast Guard District.

[FR Doc. 2016-04244 Filed 2-26-16; 8:45 am]

BILLING CODE 9110-04-P